DEPARTMENT OF THE INTERIOR

Bureau of Indian Affairs

[190A2100DD/AAKC001030/A0A51010.999900]

Land Acquisitions; the Delaware Tribe of Indians

AGENCY: Bureau of Indian Affairs, Interior.

ACTION: Notice.

SUMMARY: The Principal Deputy Assistant Secretary—Indian Affairs has made a final determination to acquire 3.133 acres, more or less, into trust for the Delaware Tribe of Indians on June 6, 2019.

FOR FURTHER INFORMATION CONTACT: Ms. Sharlene M. Round Face, Bureau of Indian Affairs, Division of Real Estate Services, 1849 C Street NW, MS-4624-MIB, Washington, DC 20240, telephone (505) 563-3132.

SUPPLEMENTARY INFORMATION: This notice is published in the exercise of authority delegated by the Secretary of the Interior to the Principal Deputy Assistant Secretary—Indian Affairs by part 209 of the Departmental Manual, and is published to comply with the requirement of 25 CFR 151.12(c)(2)(ii) that notice of the decision to acquire land in trust be promptly published in the Federal Register.

On June 6, 2019, the Principal Deputy Assistant Secretary—Indian Affairs issued a decision to accept land in trust for the Delaware Tribe of Indians under the authority of Section 5 of the Indian Reorganization Act of 1934 (25 U.S.C. 5108).

Legal Description

A tract of land located in a portion of the S½SW¼NE¼NE¼ of Section 13, Township 35 South, Range 13 East of the 6th Principal Meridian, City of Caney, Montgomery County, Kansas; more particularly described as follows: Commencing at the East Quarter Corner of Section 13; thence N 89°37′03″ W, along the South line of the SE¼NE¼, a distance of 1,297.83 feet to the Southwest corner thereof; thence N 00°38′28″ W, along the West line of the SE¼NE¼, a distance of 1,333.20 feet to the Northwest corner thereof; thence S 89°06′35″ E, along the South line of the NE¼NE¼, a distance of 30.01 feet, to the East Right of Way Line of High Street, for the True Point of Beginning: Thence N 00°29′47″ W, along said East Right of Way Line of High Street, a distance of 328.07 feet to the North line of the S½SW¼NE¼NE¼ of Section 13; thence S 89°11′40″ E, along said North line, a distance of 420.34 feet; thence S 01°07′05″ W, a distance of 328.58 feet to the South line of the NE¼NE¼; thence N 89°06′35″ W, along said South line, a distance of 411.09 feet to the Point of Beginning and containing 3.133 acres, more or less. Surface only.

Dated: June 6, 2019.
John Tahsuda,
Principal Deputy Assistant Secretary—Indian Affairs.

[FR Doc. 2019-13262 Filed 6-20-19; 8:45 am]

BILLING CODE 4337-15-P